NATIONAL SCIENCE FOUNDATION

Proposal Review Panel for Physics; Notice of Meeting

In accordance with the Federal Advisory Committee Act (Pub. L. 92-463, as amended), the National Science Foundation (NSF) announces the following meeting:

NAME AND COMMITTEE CODE: Proposal Review Panel for Division of Physics (1208)—Center for Ultracold Atoms (CUA).

DATE AND TIME:

November 30, 2020; 10:00 a.m.-6:30 p.m.

December 1, 2020; 10:00 a.m.-5:00 p.m.

December 2, 2020; 10:00 a.m.-1:00 p.m.

PLACE: Massachusetts Institute of Technology, 77 Massachusetts Avenue, Cambridge, MA 02139.

TYPE OF MEETING: Part-open.

CONTACT PERSONS: James Shank, Program Director for Physics Frontier Centers, Division of Physics; National Science Foundation, 2415 Eisenhower Avenue, Room W9214, Alexandria, VA 22314; Telephone: (703) 292-4516.

PURPOSE OF MEETING: Virtual site visit to provide an evaluation of the progress of the projects at the host site for the Division of Physics at the National Science Foundation.

Agenda

November 30, 2020; 10:00 a.m.-6:30 p.m.

10:00 a.m.-12:00 p.m. Directors Overview & Science Talks—Session 1

12:00 p.m.-01:00 p.m. Lunch

01:00 p.m.-03:00 p.m. Science Talks—Session 2

03:30 p.m.-04:30 p.m. Executive Session (CLOSED)

Questions delivered to PIs

04:30 p.m.-06:30 p.m. Poster Session

December 1, 2020; 10:00 a.m.-5:00 p.m.

10:00 a.m.-12:00 p.m. Education/Outreach/Diversity

12:00 p.m.-01:00 p.m. Lunch

01:00 p.m.-02:00 p.m. Directors Conclusion and Plans for Coming Year

02:00 p.m.-03:00 p.m. University Administrators

03:00 p.m.-04:30 p.m. Executive Session (CLOSED)

04:30 p.m.-05:00 p.m. Questions delivered to PIs

December 2, 2020; 10:00 a.m.-1:00PM

10:00 a.m.-11:00 a.m. Responses to Questions

11:00 a.m.-01:00 p.m. Panel Discussion of Report (Closed)

REASON FOR CLOSING: Topics to be discussed and evaluated during the virtual site review will include information of a proprietary or confidential nature, including technical information and information on personnel. These matters are exempt under 5 U.S.C. 552b(c), (4) and (6) of the Government in the Sunshine Act.

Dated: October 28, 2020.
Suzanne Plimpton,
Acting Committee Management Officer.

[FR Doc. 2020-24249 Filed 11-2-20; 8:45 am]

BILLING CODE 7555-01-P